NATIONAL SCIENCE FOUNDATION

Sunshine Act Meetings; National Science Board

The National Science Board, pursuant to NSF regulations (45 CFR part 614), the National Science Foundation Act, as amended (42 U.S.C. 1862n-5), and the Government in the Sunshine Act (5 U.S.C. 552b), hereby gives notice of the scheduling of meetings for the transaction of National Science Board business, as follows:

DATE AND TIME: August 12, 2015 from 8:00 a.m. to 4:45 p.m. and August 13, 2015 from 8:00 a.m. to 2:00 p.m. (EDT).

PLACE: These meetings will be held at the National Science Foundation, 4201 Wilson Blvd., Room 1235, Arlington, VA 22230. All visitors must contact the Board Office (call 703-292-7000 or send an email message to nationalsciencebrd@nsf.gov) at least 24 hours prior to the meeting and provide name and organizational affiliation. Visitors must report to the NSF visitor desk located in the lobby at the 9th and N. Stuart Streets entrance to receive a visitor's badge.

WEBCAST INFORMATION: Public meetings and public portions of meetings will be webcast. To view the meetings, go to www.tvworldwide.com/events/nsf/150812 and follow the instructions.

UPDATES: Please refer to the National Science Board Web site for additional information. Meeting information and schedule updates (time, place, subject matter or status of meeting) may be found at http://www.nsf.gov/nsb/meetings/notices.jsp.

AGENCY CONTACT: Ron Campbell, jrcampbe@nsf.gov, (703) 292-7000.

PUBLIC AFFAIRS CONTACT: Nadine Lymn, nlymn@nsf.gov, (703) 292-2490.

STATUS: Portions open; portions closed.

Open Sessions

August 12, 2015

8:00-8:35 a.m. (Plenary introduction, Chair and Director Reports)

8:35-9:40 a.m. (SEI)

9:40-10:00 a.m. (CSB)

10:00-10:20 a.m. (CPP)

1:00-1:30 p.m. (AO)

1:30-3:00 (CEH)

August 13, 2015

8:00-8:45 a.m. (AB)

1:30-2:00 p.m. (Plenary)

Closed Sessions

August 12, 2015

10:35-11:45 a.m. (AO)

11:45 a.m.-12:00 p.m. (Plenary executive)

3:13-4:45 p.m. (CPP)

August 13, 2015

8:45-9:50 a.m. (CSB)

10:20 a.m.-12:30 p.m. (Plenary)

MATTERS TO BE DISCUSSED:

Tuesday, August 12, 2015

Plenary Board Meeting

Open Session: 8:00-8:35 a.m.

• Introduction and NSB Chair's Report

• NSF Director's Report

Committee on Science & Engineering Indicators (SEI)

Open Session: 8:35-9:40 a.m.

• Committee Chair's introduction

• Approval of the May 2015 meeting minutes

• Discussion of the Science and Engineering Indicators 2016 `Orange Book' and the remaining steps of the review process

• Update on Digest and Overview

• Update on `Digital Indicators'

• Discussion of `Vignettes'

• Chair's closing remarks

Committee on Strategy and Budget (CSB)

Open Session: 9:40-10:00 a.m.

• Committee Chair's remarks

• Approval of CSB open minutes for the May 2015 meeting

• NSF FY 2016 budget update

Committee on Programs and Plans (CPP)

Open Session: 10:00-10:20 a.m.

• Approval of open minutes of the August 2015 meeting

• Committee Chair's remarks

○ CY 2015 schedule of planned action and information items; update for the August 2015 meeting

○ Update on IceCube Neutrino Observatory's M&O award

○ Information Item: National Center for Atmospheric Research/University Corporation for Atmospheric Research (NCAR/UCAR) strategic planning process

○ Information Item: Gemini Observatory

Audit and Oversight Committee

Closed Session: 10:35-11:45 a.m.

• Approval of minutes of May 2015 closed meeting and August 5, 2015 closed teleconference

• Committee Chair's opening remarks, including status report regarding the National Academy of Public Administration (NAPA) study

• Office of the Inspector General FY 2017 budget request

• Update and discussion of two-month salary support compensation policy

Plenary Board Meeting

Executive Closed Session: 11:45 a.m.-12:00 p.m.

• NSB Chair's opening remarks

• Approval of executive closed session minutes, May 2015

• Update from Nominations Committee

• Board member proposal

• Chair's closing remarks

Committee on Audit & Oversight (AO)

Open Session: 1:00-1:30 p.m.

• Approval of May 2015 open meeting minutes

• Committee Chair's opening remarks

• Inspector General's update

• Chief Financial Officer's update

Committee on Education and Human Resources (CEH)

Open Session: 1:30-3:00 p.m.

• Committee Chair's opening remarks

• Approval of CEH open minutes for the February 2015 meeting

• Discussion: Grand challenges in STEM education

Committee on Programs and Plans (CPP)

Closed Session: 3:15-4:45 p.m.

• Approval of closed CPP minutes for May 2015 meeting

• Committee Chair's remarks

• Information Item: Risks to Antarctic Programs

• Information Item: CERN Agreement

• Information Item: Update on National Ecological Observatory Network (NEON)

• Discussion: Recompetition Policy

• Committee Chair's closing remarks

Wednesday, August 13, 2015

Working Group on Administrative Burdens (AB)

Open Session: 8:00-8:45 a.m.

• Working Group Chair's opening remarks

• Approval of prior minutes

• NSF implementation of NSB recommendations

Committee on Strategy and Budget (CSB)

Closed Session: 8:45-9:50 a.m.

• Committee Chair's remarks

• Approval of CSB closed minutes for the May 2015 meeting and July 2015 teleconference

• FY 2017 comprehensive budget approval

Plenary Board Meeting

Closed Session: 10:20 a.m.-12:30 p.m.

• NSB Chair's opening remarks

• NSF Director's remarks

• Approval of closed session minutes, May 2015

• Discussion of risks to NSF

• Closed committee reports

• Action on CSB recommendation regarding comprehensive NSF FY 2017 budget

• NSB Chair's remarks

Plenary Board Meeting

Open Session: 1:30-2:00 p.m.

• NSB Chair's opening remarks

• NSF Director's remarks

• Approval of open session minutes, May 2015

• Approval of NSB meeting dates for CY 2016

• Open committee reports

• Chairman's closing remarks, including discussion of and recommendations for structural changes to the ad hoc Honorary Awards Committee

MEETING ADJOURNS: 2:00 p.m.

Kyscha Slater-Williams,
Program Specialist, National Science Board.

[FR Doc. 2015-19583 Filed 8-5-15; 4:15 pm]

BILLING CODE 7555-01-P